COMMISSION ON CIVIL RIGHTS

Agenda and Notice of a Public Meeting of the Maine Advisory Committee

AGENCY: Commission on Civil Rights.

ACTION: Announcement of a public meeting.

SUMMARY: Notice is hereby given, pursuant to the provisions of the rules and regulations of the U.S. Commission on Civil Rights (Commission), and the Federal Advisory Committee Act (FACA), that the Maine State Advisory Committee to the Commission will hold a virtual meeting for project planning on Thursday, September 8, 2022, at 12:00 p.m. (ET).

DATES: Thursday, September 8, 2022, at 12:00 p.m. (ET).

Public Web Conference Registration Link (video and audio): https://tinyurl.com/2p8uuzvu; password, if needed: USCCR-ME.

If Joining by Phone Only, Dial: 1-551-285-1373; Meeting ID: 161 025 9350#.

FOR FURTHER INFORMATION CONTACT: Liliana Schiller at lschiller@usccr.gov or 312-353-8311.

SUPPLEMENTARY INFORMATION: These meetings are available to the public through the WebEx link above. If joining only via phone, callers can expect to incur charges for calls they initiate over wireless lines, and the Commission will not refund any incurred charges. Individuals who are deaf, deafblind and hard of hearing. may also follow the proceedings by first calling the Federal Relay Service at 1-800-877-8339 and providing the Service with the call-in number found through registering at the web link provided for these meetings.

Members of the public are entitled to make comments during the open period at the end of the meetings. Members of the public may also submit written comments; the comments must be received in the Regional Programs Unit within 30 days following the meeting. Written comments may be emailed to Liliana Schiller at lschiller@usccr.gov. Persons who desire additional information may contact the Regional Programs Unit at (202) 539-8246. Records and documents discussed during the meetings will be available for public viewing as they become available at www.facadatabase.gov. Persons interested in the work of this advisory committee are advised to go to the Commission's website, www.usccr.gov, or to contact the Regional Programs Unit at the above phone number or email address.

Agenda

Thursday, September 8, 2022, at 12 p.m. ET

I. Welcome & Roll Call

II. Approval of Minutes: July 18, 2022

III. Administrative Announcements

IV. Standing Meetings: 2nd Thursdays, From August thru December 2022; 12 p.m. ET

IV. Discussion: Project Proposal & Next Steps

a. Update on Proposal

b. Date of Briefing #1: October 20, 2022, Thursday; 12:00 p.m. ET

c. Planning for Briefings

d. Monday.com Panelist Recommendation Board

V. Public Comment

VI. Adjournment

Dated: August 5, 2022.
David Mussatt,
Supervisory Chief, Regional Programs Unit.

[FR Doc. 2022-17164 Filed 8-9-22; 8:45 am]

BILLING CODE P